ENVIRONMENTAL PROTECTION AGENCY

[FRL 9959-89-Region 8]

Proposed Administrative Settlement Agreement and Order on Consent, Quartz Hill Tailings Pile Within the Central City/Clear Creek Superfund Site, Central City, Gilpin County, Colorado

AGENCY: Environmental Protection Agency (EPA).

ACTION: Notice of proposed agreement; request for public comment.

SUMMARY: In accordance with the requirements of the Comprehensive Environmental Response Compensation, and Liability Act of 1980, as amended (“CERCLA”), notice is hereby given of the proposed administrative settlement between the U.S. Environmental Protection Agency (“EPA”) and the City of Central, CO (“Settling Party”). Pursuant to the terms of the proposed settlement, the Settling Party will enact a land use ordinance and conduct operations and maintenance activities over the Quartz Hill Tailings Pile, within the Central City/Clear Creek Superfund Site. In exchange, the EPA will provide a covenant not to sue, and release certain liens against property owned by the Settling Party within the Central City/Clear Creek Superfund Site. The State of Colorado is also a signatory to the proposed agreement.

DATES: Comments must be submitted on or before May 1, 2017. For thirty (30) days following the date of publication of this notice, the Agency will receive written comments relating to the agreement. The Agency will consider all comments received and may modify or withdraw its consent to the agreement if comments received disclose facts or considerations that indicate that the agreement is inappropriate, improper, or inadequate.

ADDRESSES: The Agency's response to any comments, the proposed agreement and additional background information relating to the agreement is available for public inspection at the EPA Superfund Record Center, 1595 Wynkoop, Denver, Colorado.

Comments and requests for a copy of the proposed agreement should be addressed to Maureen O'Reilly, Enforcement Specialist, Environmental Protection Agency-Region 8, Mail Code 8ENF-RC, 1595 Wynkoop Street, Denver, Colorado 80202-2466, and should reference the Central City/Clear Creek Superfund Site, Central City, Gilpin County, Colorado.

FOR FURTHER INFORMATION CONTACT: Amelia Piggott, Enforcement Attorney, Legal Enforcement Program, Environmental Protection Agency-Region 8, Mail Code 8ENF-L, 1595 Wynkoop Street, Denver, Colorado 80202-2466, (303) 312-6410.

Dated: February 15, 2017.
Suzanne J. Bohan,
Acting Deputy Regional Administrator, U.S. Environmental Protection Agency, Region VIII.

[FR Doc. 2017-06118 Filed 3-29-17; 8:45 am]

BILLING CODE 6560-50-P